DEPARTMENT OF COMMERCE

National Oceanic and Atmospheric Administration

RIN: 0648-XM57

Pacific Fishery Management Council; Public Meeting

AGENCY: National Marine Fisheries Service (NMFS), National Oceanic and Atmospheric Administration (NOAA), Commerce.

ACTION: Notice of a public meeting.

SUMMARY: The Pacific Fishery Management Council's (Council) Groundfish Allocation Committee (GAC) will hold a working meeting, which is open to the public.

DATES: The GAC meeting will be held Tuesday, January 27, 2009, from 8:30 a.m. until business for the day is completed. The GAC will reconvene on Wednesday, January 28 and Thursday, January 29, 2009, at 8:30 a.m. each day until their business is completed.

ADDRESSES: The GAC meeting will be held at the Shilo Inn Portland Airport, Mt. Hood Room, 11707 NE Airport Way, Portland, OR 97220; telephone: +(503) 252-7500.

Council address: Pacific Fishery Management Council, 7700 NE Ambassador Place, Suite 101, Portland, OR 97220-1384.

FOR FURTHER INFORMATION CONTACT: Mr. John DeVore, Groundfish Management Coordinator; telephone: (503) 820-2280.

SUPPLEMENTARY INFORMATION: The purpose of the GAC meeting is to consider draft alternatives and other material for a contemplated allocation of future harvests of selected groundfish species and stock complexes to limited entry trawl sectors and other sectors of the west coast groundfish fishery; accumulation and control limits for individual fishing quotas assigned to limited entry trawl permit holders in a contemplated rationalized shoreside trawl sector; and a new limited entry licensing system for west coast open access groundfish fisheries (open access license limitation). No management actions will be decided by the GAC. The GAC's role will be development of recommendations and preferred alternatives for analysis in contemplated NEPA-compliant environmental analyses for these three initiatives. The GAC recommendations will be provided for consideration by the Council at its March and April 2009 meetings in Seattle, Washington and Millbrae, CA, respectively.

Although non-emergency issues not contained in the meeting agenda may come before the GAC for discussion, those issues may not be the subject of formal GAC action during this meeting. GAC action will be restricted to those issues specifically listed in this notice and any issues arising after publication of this notice that require emergency action under Section 305(c) of the Magnuson-Stevens Fishery Conservation and Management Act, provided the public has been notified of the GAC's intent to take final action to address the emergency.

Special Accommodations

This meeting is physically accessible to people with disabilities. Requests for sign language interpretation or other auxiliary aids should be directed to Ms. Carolyn Porter at (503) 820-2280 at least 5 days prior to the meeting date.

Dated: January 5, 2008.
Tracey L. Thompson,
Acting Director, Office of Sustainable Fisheries, National Marine Fisheries Service.

[FR Doc. E9-143 Filed 1-8-09; 8:45 am]

BILLING CODE 3510-22-S